DEPARTMENT OF HEALTH AND HUMAN SERVICES

Centers for Disease Control and Prevention

[30Day-04II]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Evaluation of State Nutrition and Physical Activity Programs to Prevent Obesity and Other Chronic Diseases—New—National Center for Chronic Disease Prevention and Health Promotion (NCCDHP), Centers for Disease Control and Prevention (CDC).

The “State Nutrition and Physical Activity Programs to Prevent Obesity and Other Chronic Diseases” project was established by CDC to prevent and control obesity and other chronic diseases by supporting States in the development and implementation of nutrition and physical activity interventions, particularly through population-based strategies such as policy-level changes, environmental supports and the social marketing process. The goal of the programs in this project is to attain population-based behavior change such as increased physical activity and better dietary habits; this will likely lead to a reduction in the prevalence of obesity, and ultimately to a reduction in the prevalence of obesity-related chronic diseases.

The evaluation questions for “State Nutrition and Physical Activity Programs to Prevent Obesity and Other Chronic Diseases” have been designed to focus on three primary areas: (1) CDC training and technical assistance; (2) State plan development; and (3) State interventions. Within each of these primary evaluation areas, the program has identified specific evaluation questions that have been chosen for study. The evaluation questions will be asked of the funded states via a Web-based data collection system supported by an electronic database. This evaluation will take place every six months during the funding cycle. The proposed project will be conducted over a three-year period. There is no cost to the respondents. The total burden hours are 480.

Respondents | Number of respondents | Number responses per respondent | Average burden per response (in hrs.)
Funded State Programs | 20 | 2 | 12

Dated: October 8, 2004.
Alvin Hall,
Director, Management Analysis and Services Office, Centers for Disease Control and Prevention.

[FR Doc. 04-23151 Filed 10-14-04; 8:45 am]

BILLING CODE 4163-18-P